DEPARTMENT OF THE INTERIOR

Bureau of Indian Affairs

[234A2100DD/AAKC001030/A0A501010.999900]

Land Acquisitions; Oneida Indian Nation, Madison and Oneida Counties, New York

AGENCY: Bureau of Indian Affairs, Interior.

ACTION: Notice.

SUMMARY: The Assistant Secretary—Indian Affairs made a final agency determination to acquire in trust 269.543 acres, more or less, of land located within the Nation's Reservation, in Madison County and Oneida County, New York, for the Oneida Indian Nation (Nation or OIN) for gaming and other purposes.

DATES: This final determination was made on February 17, 2023.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire lands consisting of 269.543 acres, more or less, in trust for the Nation under the authority of the Indian Reorganization Act of June 18, 1934, 25 U.S.C. 5108.

The Assistant Secretary—Indian Affairs, on behalf of the Secretary of the Interior, will immediately acquire title to the lands in the name of the United States of America in trust for the Nation upon fulfillment of all Departmental requirements. The 269.543 acres, more or less, are described as follows:

Real Property in the Counties of Madison and Oneida, State of New York, Described as Follows

OIN Parcels 75-81

DESCRIPTION: ALL THAT TRACT OR PARCEL OF LAND, situate in the Village of Canastota and Town of Lenox, County of Madison and State of New York, being part of Lot Number 83, 84, 86, 87 and 88 of the Canastota Tract, bounded and described as follows: TAX MAP# 36.5-1-20, TAX MAP# 36.6-1-1, TAX MAP# 36.6-1-3, TAX MAP# 36.6-1-4, TAX MAP# 36.38-1-32, TAX MAP# 36.38-1-34 and TAX MAP# 36.-3-2 PARCEL A Beginning at an iron pin on the easterly highway boundary of North Peterboro Street (New York State Route #13), said iron pin standing at the intersection of the easterly highway boundary of North Peterboro Street with the northerly boundary of Albert W. Tucci and George Tucci (Now or Formerly), as described in a Warranty Deed dated June 20, 1988 and filed in the Madison County Clerk's Office in Liber 863 of Deeds at page 278; thence N 09°23′58″ W 66.69 feet along the easterly highway boundary of North Peterboro Street to a point standing on the southerly boundary of Richard G. Clark and Donald E. Clark (Now or Formerly); thence N 77°58′02″ E 8.10 feet along the southerly boundary of Clark to an iron pin; thence N 53°12′02″ E 143.90 feet continuing along the southerly boundary of Clark to an iron pin standing on the easterly boundary of Clark; thence N 08°31′58″ W 72.15 feet along the easterly boundary of Clark to an iron pin; thence N 22°35′58″ W 140.45 feet continuing along the easterly boundary of Clark to a concrete monument standing on the southerly highway boundary of the lands of the New York State Thruway; thence N 46 °42′00″ E 1151.00 feet along the southerly highway boundary of the lands of the New York State Thruway to a point; thence N 37°34′00″ E, 525.37 feet continuing along the southerly highway boundary of the lands of the New York State Thruway to a point; thence N 11°30′00″ E 465.37 feet to a concrete monument; thence N 24° 00′50″ E 278.68 feet to a concrete monument; thence N 36°03′25″ E 1.06 feet still along the southerly highway boundary of the lands of the New York State Thruway to a point standing on the westerly boundary of the lands of the Niagara Mohawk Power Corporation (Reputed Owner) (Adirondack Power and Light Corporation—Formerly); thence S 06°36′20″ E 1805.51 feet along the westerly boundary of the lands of the Niagara Mohawk Power Corporation to an iron pin standing on the northerly boundary of the lands of the Canastota Central School District (Reputed Owner); thence S 52°30′43″ W 804.51 feet along the northerly boundary of the lands of the Canastota Central School District to an iron pin standing on the easterly boundary of Robert J. Regis (Now or Formerly); thence N 34°44′54″ W 233.39 feet along the easterly boundary of Regis and then along the easterly boundary of Elizabeth Paver, Et al. (Now or Formerly) to an iron pin standing on the northerly boundary of Paver; thence S 62°14′06″ W 216.60 feet along the northerly boundary of Paver to an iron pin standing on the easterly boundary of Paver; thence N 29°59′54″ W 169.50 feet along the easterly boundary of Paver to an iron pin standing on the northerly boundary of Paver; thence S 58°09′37″ W 463.27 feet along the northerly boundary of Paver to an iron pin; thence S 74°23′02″ W 34.68 feet continuing along the northerly boundary of Paver to an iron pin standing on the easterly boundary of Tucci; thence N 05°21′58″ W 52.00 feet along the easterly boundary of Tucci to an iron pin standing on the northerly boundary of Tucci; thence S 80°06′02″ W 142.56 feet along the northerly boundary of Tucci to the point and place of beginning. The above described parcel containing 34.7090 acres of land, more or less. PARCEL B Beginning at a point on the southerly highway boundary of the lands of the New York State Thruway, said point standing at the intersection of the southerly highway boundary of the lands of the New York State Thruway with the easterly boundary of the lands of Niagara Mohawk Power Corporation (Reputed Owner) (Adirondack Power and Light Corporation—Formerly), as described in a Full Covenant Deed dated August 25, 1925 and filed in the Madison County Clerk's Office in Liber 278 of Deeds at page 289; thence N 48°18′37″ E 80.66 feet along the southerly highway boundary of the lands of the New York State Thruway to a point standing on the westerly boundary of the lands of Niagara Mohawk Power Corporation (Now or Formerly); thence S 06°36′20″ E 61.10 feet along the westerly boundary of the lands of the Niagara Mohawk Power Corporation to a point; thence N 48°18′37″ E 36.01 feet along the southerly boundary of the lands of the Niagara Mohawk Power Corporation to a point; thence N 47°15′57″ E 214.01 feet continuing along the southerly boundary of the lands of the Niagara Mohawk Power Corporation to a point; thence N 51°26′35″ E 120.16 feet to a point; thence N 57°41′16″ E 1014.09 feet to a point; thence N 76°16′05″ E 398.07 feet still along the southerly boundary of the lands of the Niagara Mohawk Power Corporation to an iron pin standing on the westerly boundary of Michael Fusillo and Linda Fusillo (Now or Formerly); thence S 38°40′27″ E 447.93 feet along the westerly boundary of Fusillo to an iron pin standing on the southerly boundary of Fusillo; thence N 50°19′34″ E 594.66 feet along the southerly boundary of Fusillo to a corner fence post standing on the southerly boundary of Jeffrey L. Barley (Now or Formerly); thence N 51°19′34″ E 346.25 feet along the southerly boundary of Barley and then along the southerly boundary of Robert P. Stager and Dianne M. Bunnell (Now or Formerly) to a point standing on the southerly boundary of the lands of the Niagara Mohawk Power Corporation (Reputed Owner) (Adirondack Power and Light Corporation—Formerly); thence N 76°16′05″ E 35.71 feet along the southerly boundary of the lands of the Niagara Mohawk Power Corporation to a point standing on the westerly boundary of Susan A. Giacobbi (Now or Formerly); thence S 39°51′12″ E 809.27 feet along the westerly boundary of Giacobbi to an iron pin standing on the northerly boundary of Giacobbi; thence S 51°22′49″ W 1327.18 feet along the northerly boundary of Giacobbi to a corner fence post standing on the easterly boundary of Giacobbi; thence N 39° 51′12″ W 21.56 feet along the easterly boundary of Giacobbi to a corner fence post standing on the northerly boundary of Giacobbi; thence S 51°05′15″ W 2170.75 feet along the northerly boundary of Giacobbi, the northerly boundary of Robert J. and Frieda B. Phoenix (Now or Formerly) and thence along the northerly boundary of John v. and Nancy J. James (Now or Formerly) to a point; thence S 51°51′34″ W 151.14 feet to a point standing on the northerly boundary of Maude F. Wollaber (Now or Formerly); thence S 82°26′28″ W 106.97 feet along the northerly boundary of Wollaber to a point standing on the easterly boundary of the lands of the Niagara Mohawk Power Corporation (Reputed Owner) (Adirondack Power and Light Corporation—Formerly); thence N 05°40′17″ W 610.34 feet along the easterly boundary of the lands of the Niagara Mohawk Power Corporation to a point standing on the southerly boundary of the lands of the Niagara Mohawk Power Corporation; thence N 51°51′34″ E 11.73 feet along the southerly boundary of the lands of the Niagara Mohawk Power Corporation to a point standing on the easterly boundary of the lands of the Niagara Mohawk Power Corporation; thence N 06°36′20″ W 1168.80 feet along the easterly boundary of the lands of the Niagara Mohawk Power Corporation to the point and place of beginning. The above described parcel containing 95.734 acres of land, more or less. PARCEL C Beginning at a point on the southerly highway boundary of the lands of the New York State Thruway, said point standing at the intersection of the southerly highway boundary of the lands of the New York State Thruway with the northerly boundary of the lands of the Niagara Mohawk Power Corporation (Reputed Owner) (Adirondack Power and Light Corporation—Formerly), as described in a Full Covenant Deed dated October 7, 1924, and filed in the Madison County Clerk's Office in Liber 275 of Deeds at Page 49; thence N 57°45′18″ W 195.22 feet along the southerly highway boundary of the lands of the New York State Thruway to a point standing on the westerly boundary of Michael Fusillo and Linda Fusillo (Now or Formerly); thence S 38°40′27″ E 68.36 feet along the westerly boundary of Fusillo to a point standing on the northerly boundary of the lands of the Niagara Mohawk Power Corporation; thence S 76°16′05″ W 213.94 feet along the northerly boundary of the lands of the Niagara Mohawk Power Corporation to the point and place of beginning. The above described parcel of land containing 0.152 acre of land, more or less.

OIN Parcel 87

DESCRIPTION: EXHIBIT A ALL THAT TRACT OR PARCEL OF LAND situate in the Village of Canastota, County of Madison and State of New York, lying on the east side of North Peterboro Street and being a part of Lot No. 83 of the Canastota Tract, bounded and described as follows, to wit: Beginning at an iron stake on the east side of said street 66.40 feet north of an iron stake in the southwest corner of the homestead lot of Wallace E. Heintz; and running thence N 78°47′ E a distance of 8.10 feet to an iron stake; thence running N 54°01′ E a distance of 143.90 feet to an iron pipe in the southeast corner of the village lot formerly owned by Ralph Balducci; thence running N 7°43′ W along the east line of said Balducci lot 72.15 feet to an iron stake in the northeast corner of said Balducci lot; thence running N 21°47′ W a distance of 140.45 feet to a concrete monument in the southerly line of the State of New York Thruway lands; thence running S 20°39′ W along said State lands 161.02 feet to a concrete monument; thence running S 82°48′ W along said State lands 26.50 feet to the east line of said North Peterboro Street; thence S 8°36′ E along said east line 135.63 feet to the place of beginning. The premises hereby conveyed are a part of the premises described in an Administrator's Deed from Julius Heintz, as Administrator of the goods, chattels and credits of Julius Heintz, deceased to Wallace E. Heintz, dated February 11, 1947 and recorded in Madison County Clerk's Office on February 17, 1947 in Liber 381 of Deeds at page 55. ALSO ALL THAT TRACT AND PARCEL OF LAND situated in the Village of Canastota, Madison County, New York, commencing at the intersection of the southwest corner of the premises of Michael G. Corbett, being the premises described in the first parcel in this deed, on the east line of North Peterboro Street and extending thence northerly 78°47′ east a distance of 8.1 feet; thence running southerly and parallel to the east line of Peterboro Street 18 feet to a point in the south line of the driveway formerly of Wallace Heintz; thence westerly and parallel to the first described line 8.1 feet to the east line of Peterboro Street; thence northerly along the east line of Peterboro Street 18 feet to the place of beginning, being the quantity of land more or less. This conveyance made in and by this paragraph is made for the purpose of enabling the grantees herein to use the said strip of land in common with Wallace Heintz for the purpose of ingress and egress only and the grantees shall have no other right or interest in and to the said parcel of land and at no time shall the grantees use the premises herein conveyed for parking or other purposes. The right to use the right of way in common shall not be restricted to the grantees or Wallace Heintz personally but is intended to include their agents, servants, employees, invitees, customers and clients; but the restriction as to the parking shall remain in full force and effect irrespective of the person using the same. The use of the above described right of way, as aforesaid, is likewise intended to inure to the benefit of the heirs at law, next of kin, assignees, devisees, grantees of the grantees herein and of Wallace Heintz. The premises herein conveyed are the same premises as were conveyed to Michael G. Corbett by the following deeds: deed from Wallace E. Heintz dated December 1, 1954, recorded in the Madison County Clerk's Office December 2, 1954, in Book of Deeds 503, at page 428; deed from Ralph Balducci and Gasper and Katherine Sicilia dated November 30, 1954, recorded in said Clerk's Office on December 2, 1954 in Book of Deeds 503 at page 418 as corrected by a deed dated December 21, 1954, recorded in said clerk's office on December 23, 1954 in Book of Deeds 504 at page 204; and by deed from Wallace Heintz and Dorothy T. Heintz dated January 10, 1955, recorded in said Clerk's Office on January 11, 1955 in Book of Deeds 504, at page 449. SUBJECT to any easements, covenants or restrictions of record. BEING the same premises as described in a Warranty Deed from Michael G. Corbett to Richard G. Clark and Donald E. Clark dated October 25, 1972 and recorded in the Madison County Clerk's Office on October 25, 1972 in Book of Deeds 667 at Page 470.

OIN Parcels 343, 344, and 345

DESCRIPTION: LANDS OF ONEIDA INDIAN NATION, A SOVEREIGN INDIAN NATION, ONEIDA INDIAN NATION OF NEW YORK, BEING TAX MAP#, TAX MAP # 48.8-1-1.l, 48.8-1-2 AND 48.8-1-1.3, OIN PARCELS 344, 343 AND 345, RESPECTIVELY ALL THAT TRACT OR PARCEL OF LAND SITUATE IN THE VILLAGE OF CHITTENANGO, TOWN OF SULLIVAN, COUNTY OF MADISON AND STATE OF NEW YORK, BOUNDED AND DESCRIBED AS FOLLOWS: Beginning at a point on the centerline of New York State Route #5, (Fayettville-Chittenango Pt. 2 S.H. 5120), said point standing at the intersection of the centerline of New York State Route 5 with the westerly boundary of Hickory Hills Apartments Inc. (Now or Formerly) as described in a Warranty Deed dated November 29, 1993 and filed in the Madison County Clerk's Office on February 3, 1994 in Liber 984 of Deeds at Page 269; said point being further described as having Grid Coordinate N 1,110,877.73/E 1,005,014.23 (NAD 83, Central Zone 3102 Projection); thence N 67°46′00″ W 1330.84 feet along the centerline of New York State Route 5 to a point standing on the easterly boundary of other lands of Oneida Nation of New York (Now or Formerly); thence N 11°24′22″ E 222.39 feet along the easterly boundary of other lands of Oneida Nation of New York to a point standing on the northerly boundary of other lands of Oneida Nation of New York; thence N 84°58′30″ W 536.60 feet along the northerly boundary of other lands of Oneida Nation of New York to a point standing on the northerly highway boundary of New York State Route 5; thence N 66°37′00″ W 1074.89 feet along the northerly highway boundary of New York State Route 5 to an iron pin standing on the easterly highway boundary of Tom-Tom Street; thence N 17°18′00″ E 177.56 feet along the easterly highway boundary of Tom-Tom Street to an iron pin; thence N 02°52′40″ E 289.63 feet continuing along the easterly highway boundary of Tom-Tom Street to a iron pin standing on the southerly boundary of C,C,LF Senior Housing, LP (Now or Formerly); thence S 67° 13′10″ E 274.82 feet along the southerly boundary of C,C,LF Senior Housing, LP to an iron pin standing on the easterly boundary of C,C,LF Senior Housing, LP; thence N 22°46′50″ E 45.00 feet along the easterly boundary of C,C,LF Senior Housing, LP to a point standing on the southerly boundary of C,C,LF Senior Housing, LP; thence S 67°13′10″ E 432.00 feet along the southerly boundary of C,C,LF Senior Housing, LP and the southerly boundary of even other lands of Oneida Nation of New York (Now or Formerly) to a point standing on the westerly boundary of even other lands of Oneida Nation of New York; thence S 22°46′50″ W 45.00 feet along the westerly boundary of even other lands of Oneida Nation of New York to a point standing on the southerly boundary of even other lands of Oneida Nation of New York; thence S 67°13′10″ E 2208.46 feet along the southerly boundary of even other lands of Oneida Nation of New York, the southerly boundary of Village Of Chittenango (Now or Formerly), the southerly boundary of Patricia Collins (Now or Formerly), the southerly boundary of Amanda Shawn Mari and Peter J. Welker (Now or Formerly), the southerly boundary of Steven M. Patricia and Alexia R. Cooper (Now or Formerly), the southerly boundary of Daniel F. Holtz and Sandra J. Holtz (Now or Formerly), the southerly boundary of Richard G. Ireland and Kirsten J. Ireland (Now or Formerly), the southerly boundary of Elizabeth J. Marsh (Now or Formerly), the southerly boundary of Dmitriy Tarasevich and Jennifer Tarasevich (Now or Formerly), the southerly boundary of Jason Scianablo (Now or Formerly), the southerly boundary of Anthony M. Dicesare and Michelle M. Dicesare (Now or Formerly), the southerly boundary of Tullio A. Palleschi Jr. and Cynthia A. Palleschi (Now or Formerly), the southerly boundary of Jeffrey D. Pitt and Sheila F. Pitt (Now or Formerly), the southerly boundary of Gary Mantz and Lisa Mantz (Now or Formerly), the southerly boundary of Richard K. Cullen and Roberta K. Cullen (Now or Formerly), the southerly boundary of Christopher A. Titus and Linda M. Titus (Now or Formerly), the southerly boundary of Brett M. Mowers and Laura R. Mowers (Now or Formerly), the southerly boundary of Robert J. Perriello and Madelyn M. Perriello (Now or Formerly), the southerly highway boundary of Talbert Drive and the southerly boundary of Melissa L. Barbano and Ryan J. Youngs (Now or Formerly) to a point standing on the westerly boundary of Raymond C. Miller and Jennifer D. Dresher-Miller (Now or Formerly); thence S 05°01′20″ W 527.17 feet along the westerly boundary of Miller, the westerly boundary of Robert J. Khammar and Miranda Lynn Khammar (Now or Formerly), the westerly boundary of Carlo L. Panetta (Now or Formerly) and the westerly boundary of Hickory Hills Apartments, Inc. to the point and place of beginning. The above described parcel containing 31.571 acres of land, more or less. Subject to a water easement as set forth in a Deed from Pyramid Investors Company to Village of Chittenango dated May 10, 1971 and filed in the Madison County Clerk's Office in Liber 710 of Deeds at Page 33, to which deed reference is made for certainty of description, terms and conditions. Also subject to a sanitary sewer easement as set forth in a Deed from Pyramid Investors Company to Village of Chittenango dated May 10, 1971 and filed in the Madison County Clerk's Office in Liber 710 of Deeds at Page 33, to which deed reference is made for certainty of description, terms and conditions. Further subject to a drainage easement as set forth in a Deed from Pyramid Investors Company to Village of Chittenango dated May 10, 1971 and filed in the Madison County Clerk's Office in Liber 710 of Deeds at Page 33, to which deed reference is made for certainty of description, terms and conditions. Further subject to a permanent right of way as set forth in a Deed from Pyramid Investors Company to Village of Chittenango dated May 10, 1971 and filed in the Madison County Clerk's Office in Liber 710 of Deeds at Page 33, to which deed reference is made for certainty of description, terms and conditions. Further subject to a right of way and easement as set forth in a Deed from Pyramid Investors Company to Chittenango Housing For Elderly dated October 1, 1981 and filed in the Madison County Clerk's Office in Liber 731 of Deeds at Page 21, to which deed reference is made for certainty of description, terms and conditions. Further subject to a permanent easement to the People of the State of New York by Notice of Appropriation, Fayetteville-Chittenango, Pt. 2, S.H. #5120 Map #2228 as set forth in a Deed dated March 13, 1973 and filed in the Madison County Clerk's Office on June 4, 1973 in Liber 671 of Deeds at Page 924, to which deed reference is made for certainty of description, terms and conditions. Further subject to the rights of the public to that portion of the above described premises lying within the bounds of New York State Route 5. Further subject to any other easements, covenants or restrictions of record.

OIN Parcel 346

DESCRIPTION: LANDS OF ONEIDA INDIAN NATION, A SOVEREIGN INDIAN NATION, ONEIDA INDIAN NATION OF NEW YORK, BEING TAX MAP# 40.20-1-40, OIN Parcel 346; ALL THAT TRACT OR PARCEL OF LAND, situate in the Village of Chittenango, Town of Sullivan, County of Madison and State of New York, bounded and described as follows: BEGINNING at a point on the easterly highway boundary of Tom-Tom Street, said point standing at the intersection of the easterly highway boundary of Tom-Tom Street with the southerly boundary of lands of Vera B. Alley (now or formerly) as described in a Warranty Deed dated May 3, 2001 and filed in the Madison County Clerk's Office in Liber 1190 at Page 308; said point of beginning being further described as having Grid Coordinate N1113962.761/E682341.557 (NAD 27, Central zone 3102 Projection); thence S 05°46′00″ W 100.00 feet along the easterly highway boundary of Tom-Tom Street to a point standing ·on the northerly boundary of lands of Chittenango Housing For Elderly (now or formerly); thence northeasterly 39.27 feet on a curve to the right along the northerly boundary of Chittenango Housing For Elderly having a radius of 25 feet to an iron pin; thence S 84°14′00″ E 323.00 feet continuing along the northerly boundary of Chittenango Housing For Elderly to an iron pin standing on the easterly boundary of Chittenango Housing For Elderly; thence S 05°46'′00″ W 412.32 feet along the easterly boundary of Chittenango Housing For Elderly to a point standing on the northerly boundary of lands of North Atlantic Development, Inc. (now or formerly); thence S 67°13′10″ E 356.63 feet along the northerly boundary of North Atlantic Development, Inc. to a point standing on the easterly boundary of North Atlantic Development, Inc.; thence S 22°46′50″ W 45.00 feet along the easterly boundary of North Atlantic Development, Inc. to a point standing on the northerly boundary of North Atlantic Development, Inc.; thence S 67°13′10″ E 135.00 feet along the northerly boundary of North Atlantic Development, Inc. to a point standing on the westerly boundary of lands of The Village of Chittenango (now or formerly); thence N 22°46′50″ E 200.00 feet along the westerly boundary of The Village of Chittenango to a point standing on the northerly boundary of The Village of Chittenango; thence S 67°13′10″ E 30.76 feet along the northerly boundary of The Village of Chittenango to a point standing on the westerly boundary of lands of Thomas W. and Patti McGee (now or formerly); thence N 22°46′50″ E 122.50 feet along the westerly boundary of McGee to an iron pin standing on the southerly boundary of lands of Thomas M. and Laura Carfagno (now or formerly); thence N 51°26′19″ W 239.01 feet along the southerly boundary of Carfagno to an iron pin standing on the westerly boundary of Carfagno; thence N 05°46′00″ E 170.38 feet along the westerly boundary of Carfagno and the westerly boundary of lands of Giuseppe and Maria Rita Cannistra (now or formerly) to an iron pin standing on the northerly boundary of Cannistra; thence S 84°14′00″ E 86.13 feet along the northerly boundary of Cannistra to a point standing on the westerly highway boundary of Margo Avenue; thence N 05°46′00″ E 50.00 feet along the westerly highway boundary of Margo Avenue to an iron pin standing on the southerly boundary of lands of Russell H. Cooper (now or formerly); thence N 84°14′00″ W 789.02 feet along the southerly boundary of Cooper, the southerly boundary of lands of Lawrence J. Lonergan (now or formerly); the southerly boundary of lands of John J. and Virginia H. Nykaza (now or formerly), the southerly boundary of lands of David and Shirley Mills (now or formerly), the southerly boundary of lands of Alan R. and Nora S. Laube (now or formerly), the southerly boundary of lands of Keith and Marcia St. Louis (now or formerly) and the southerly boundary of lands of Alley to an iron pin; thence northwesterly 39.27 feet on a curve to the right in the southerly boundary of Alley having a radius of 25.00 feet to the point and place of beginning. The above described parcel contains 6.300 ± acres of land, more or less. BEING THE SAME PREMISES as described in a Warranty Deed from Pyramid Investors Company to North Atlantic Development, Inc. dated July 7, 2003, and recorded in the Madison County Clerk's Office on July 18, 2003, in Book 1263 of Deeds at Page 250.

OIN Parcel 347

DESCRIPTION: LANDS OF ONEIDA INDIAN NATION, A SOVEREIGN INDIAN NATION, ONEIDA INDIAN NATION OF NEW YORK, BEING OIN 347; Tax Map# 48.-1-7.112, ALL THAT TRACT OR PARCEL OF LAND, situate in the Town of Sullivan, County of Madison and State of New York, being part of Lot 4 of Varick's Location and being part of lands described in a deed from Benjamin Franklin Metcalf to John J. Benson recorded in the Madison County Clerk's Office April 30, 1912, in Book 235 of Deeds at page 140, being more particularly described as follows: BEGINNING at a point of intersection of the centerline of New York State Route 5 with the easterly boundary of lands described by the above mentioned deed, said point of beginning being about 1815 feet distant easterly, as measured along the centerline of New York State Route 5 from the westerly line of said Lot 4 of Varick's Location; running thence N 66°59′20″ W along the centerline of New York State Route 5 a distance of 725.3 feet to the point of intersection of the centerline of New York State Route 5 with the northerly boundary of lands described by the above mentioned deed; thence S 84°58′30″ E along the northerly boundary of said lands of above mentioned deed a distance of 692.60 feet to the northeast corner of said lands; thence S 5°44′ W along the easterly boundary of said lands a distance of 223.96 feet to the point of beginning. Totaling 1.30 acres, more or less. EXCEPTING those lands lying between the above described centerline of New York State Route 5 and the northerly highway boundary of New York State Route 5, the northerly highway boundary being about 49.5 feet distant northerly, as measured at right angles, from the highway centerline. BEING THE SAME PREMISES as described in a Warranty Deed from Mary Benson, John R. Benson, Betsey Benson and Robert J. Benson to North Atlantic Development, Inc. dated September 30, 2004, and recorded in the Madison County Clerk's Office on October 25, 2004, as Document Number 2004-00009880 (Book 1316 of Deeds at Page 188).

OIN Parcels 363 and 364

DESCRIPTION: LANDS OF ONEIDA INDIAN NATION, ALSO KNOWN AS ONEIDA NATION OF NEW YORK, A SOVEREIGN INDIAN NATION, ONEIDA NATION OF NEW YORK, ONEIDA INDIAN NATION, NEW YORK BRIDGEPORT—KIRKVILLE ROAD. ALL THAT TRACT OR PARCEL OF LAND SITUATE IN THE TOWN OF SULLIVAN, COUNTY OF MADISON AND STATE OF NEW YORK, BOUNDED AND DESCRIBED AS FOLLOWS: TAX MAP# 8.-2-34.1, TAX MAP #8.-2-44 AND TAX MAP# 8.-2-45 Beginning at a point standing on the centerline of Bridgeport-Kirkville Road, said point standing at the intersection of the centerline of Bridgeport-Kirkville Road with the southerly boundary of other lands of Oneida Nation of New York (Now or Formerly) as described in a Warranty Deed dated April 13, 2017 and filed in the Madison County Clerk's Office on April 21, 2017 as Instrument #2017-2044; said point being further described as having a Grid Coordinate N1149620.194/E984083.887 (NAD 83); thence S 89°49′55″ E 244.04 feet along the southerly boundary of other lands of Oneida Nation of New York to a point; thence N01°48′35″ W 159.91 feet along the easterly boundary of other lands of Oneida Nation of New York to an iron pin standing on the northerly boundary of other lands of Oneida Nation of New York; thence N89°56′27″ W 253.12 feet along the northerly boundary of other lands of Oneida Nation of New York to a point on the centerline of Bridgeport-Kirkville Road; thence N05°09′34″ W 81.35 feet along the centerline of Bridgeport-Kirkville Road to a point standing on the southerly boundary of Kristen A. Hunsicker and Richard L. Allen (Now or Formerly); thence S89 °50′ 33″E 226.53 feet along the southerly boundary of Hunsicker and Allen to an iron pin standing on the easterly boundary of Hunsicker and Allen; thence N00°09′27″ E 201.78 feet along the easterly boundary of Hunsicker and Allen, the easterly boundary of Salprop Inc. (Now or Formerly) to an iron pin standing on the southerly boundary of William Hamman (Now or Formerly); thence S88°56′16″ E 710.00 feet along the southerly boundary of Hamman, the southerly boundary of other lands of William Hamman (Now or Formerly), the southerly boundary of Dzafar Husenovic and Drita Husenovic (Now or Formerly), the southerly boundary of Oneida Indian Nation (Now or Formerly), the southerly boundary of other lands of Oneida Indian Nation (Now or Formerly) and the southerly boundary of even other lands of Oneida Indian Nation (Now or Formerly) to an iron pin standing on the westerly boundary of other lands of Oneida Nation of New York (Now or Formerly); thence S02°25′34″ E 62.48 feet along the westerly boundary of Oneida Nation of New York to an iron pin standing on the southerly boundary of Oneida Nation of New York; thence S89°18′42″ E 126.15 feet along the southerly boundary of Oneida Nation of New York to an iron pin standing on the southerly boundary of Self-Storage Route 31, LLC (Now or Formerly); thence S88° 44′02″ E 231.80 feet along the southerly boundary of Self-Storage Route 31, LLC to an iron pin standing on the southerly boundary of Jennifer L. Abulencia (Now or Formerly); thence S88°02′08″ E 281.10 feet along the southerly boundary of Abulencia and the southerly boundary of other lands of Oneida Nation of New York (Now or Formerly) to an iron pin standing on the westerly boundary of other lands of Oneida Nation of New York; thence S09°33′52″ W 710.69 feet along the westerly boundary of other lands of Oneida Nation of New York to a point standing on the southerly boundary of other lands of Oneida Nation of New York; thence S69°28′49″ E 212.69 feet along the southerly boundary of other lands of Oneida Nation of New York to an iron pin standing on the easterly boundary of other lands of Oneida Nation of New York; thence N20°04′52″ E 794.77 feet along the easterly boundary of other lands of Oneida Nation of New York to an iron pin standing on the southerly boundary of Bridgeport Overseas Veterans Corporation, Inc. (Now or Formerly) ; thence S88°55′08″ E 456 .17 feet along the southerly boundary of Bridgeport overseas Veterans Corporation Inc. to an iron pin standing on the southerly boundary of even other lands of Oneida Indian Nation (Now or Formerly); thence S77°55′08″ E 130.96 feet along the southerly boundary of even other lands of Oneida Indian Nation and the southerly boundary of Paul Gagnon and Janet Gagnon (Now or Formerly) to an iron pin standing on the westerly boundary of Gagnon; thence S20°04′52″W 965.80 feet along the westerly boundary of Gagnon to an iron pin standing on the southerly boundary of Gagnon; thence S69°28′49″ E 1486.69 feet along the southerly boundary of Gagnon, the southerly boundary of Empire 1 Acquisitions, LLC (Now or Formerly), the southerly boundary of Blase Larroca (Now or Formerly) and the southerly boundary of other lands of Blase Larroca (Now or Formerly) to an iron pin standing on the westerly boundary of other lands of Blase Larroca; thence S20°31′11″ W 916.74 feet along the westerly boundary of other lands of Blase Larroca to an iron pin standing on the northerly boundary of William F. Harrington and Linda C. Harrington (Now or Formerly); thence N69°34′36″ W 3182.60 feet along the northerly boundary of Harrington to an iron pin standing on the easterly boundary of Eugene C. Perry, Jr. and Wendy L. Perry (Now or Formerly); thence N05°14′47″ W 115.50 feet along the easterly boundary of Perry to an iron pin standing on the northerly boundary of Perry; thence N69°34′36″ W 188.57 feet along the northerly boundary of Perry to a point standing on the centerline of Bridgeport-Kirkville Road; thence N05°14′47″ W 175.88 feet along the centerline of Bridgeport-Kirkville Road to a point on the southerly boundary of Lawrence C. Jesmore (Now or Formerly); thence S69°28′49″ E 364.62 feet along the southerly boundary of Jesmore to an iron pin standing on the easterly boundary of Jesmore; thence N05°14′47″ W 330.00 feet along the easterly boundary of Jesmore and the easterly boundary of Limestone Ridge, LLC (Now or Formerly) to an iron pin standing on the southerly boundary of even other lands of Oneida Nation of New York (Now or Formerly); thence S88 ° 48° 22″ E 3.47 feet along the southerly boundary of even other lands of Oneida Nation of New York to an iron pin standing on the easterly boundary of even other lands of Oneida Nation of New York; thence N05°12′36″W 100.00 feet along the easterly boundary of even other lands of Oneida Nation of New York to a point standing on the northerly boundary of even other lands of Oneida Nation of New York; thence N88°48′22″ W 333.96 feet along the northerly boundary of even other lands of Oneida Nation of New York to a point standing on the centerline of Bridgeport-Kirkville Road; thence N05 ° 07′4l″ W 229.12 feet along the centerline of Bridgeport-Kirkville Road to the point and place of beginning. The above-described parcel containing 99.434± acre of land, more or less. Subject to that portion of the above-described premises situate within the bounds of Bridgeport-Kirkville Road. Also, subject to an easement granted to New York Telephone Company by Deed dated September 27, 1961 and filed in the Madison County Clerk's Office in Liber 593 of Deeds at Page 537. Further subject to an Easement granted to Town of Sullivan, The North Sullivan Water District and Onondaga County Water Authority by Deed dated June 10, 1972 and filed in the Madison County Clerk's Office on September 19, 1972 in Liber 666 of Deeds at Page 564. Further subject to an Easement granted to The Town of Sullivan, The North Sullivan Water District and Onondaga County Water Authority by Deed dated June 12, 1972 and filed in the Madison County Clerk's Office on November 14, 1972 in Liber 667 of Deeds at Page 944. Further subject to an Easement granted to The Town of Sullivan, The North Sullivan Water District and the Onondaga County Water Authority by deed dated December 11, 1973 and filed in the Madison County Clerk's Office on March 28, 1973 in Liber 670 of Deeds at Page 375. Further subject to an easement granted to New York Telephone Company by Deed dated November 22, 1961 and filed in the Madison County Clerk's Office in Liber 593 of Deeds at Page 371. Further subject to a Right of Way and Easement granted to The Town of Sullivan Water District and Onondaga County Water Authority by Deed dated June 12, 1972 and filed in the Madison County Clerk's Office on November 14, 1972 in Liber 667 of Deeds at Page 945. Further subject to a Right of Way and Easement granted to Niagara Mohawk Power Corporation by Deed dated October 17, 1988 and filed in the Madison County Clerk's Office on January 23, 1989 in Liber 879 of Deeds at Page 33. Further subject to any other easements, covenants or restrictions of record.

OIN Parcel 384

DESCRIPTION: LANDS OF ONEIDA INDIAN NATION, A SOVEREIGN INDIAN NATION OF NEW YORK, BEING TAX MAP# 252.007-5-25, OIN Parcel 384; ALL THAT TRACT OR PARCEL OF LAND SITUATE IN TOWN OF VIENNA, COUNTY OF ONEIDA AND STATE OF NEW YORK, BOUNDED AND DESCRIBED AS FOLLOWS: Beginning at a concrete monument standing on the nominal westerly highway boundary of Park Avenue, said concrete monument standing at the intersection of the nominal westerly highway boundary of Park Avenue with the southerly boundary o f Edward R. Stewart, Jr. and Leslie F. Stewart (Now or Formerly) as described in a deed filed in the Oneida County Clerk's Office in Liber 2174 of Deeds at Page 161; thence S 14°45′00″ W 172.00 feet along the westerly highway boundary of Park Avenue to a point standing on the northerly boundary of Ontario Realty, Inc. (Now or Formerly); thence N 75°15′00″ W 158.08 feet along the northerly boundary of Ontario Realty, Inc. and also along the northerly boundary of other lands of Ontario Realty, lnc. (Now or Formerly) to a point standing on the easterly boundary of the Village of Sylvan Beach (Now or Formerly); thence N 14°44′10″ E 130.00 feet along the easterly boundary of the Village of Sylvan Beach to a point standing on the southerly boundary of other lands of the Village of Sylvan Beach (Now or formerly); thence S75°15′00″ E 8.11 feet along the southerly boundary of other lands of the Village of Sylvan Beach to a point standing on the easterly boundary of other lands of the Village of Sylvan Beach; thence N 14°45′00″ E 42.00 feet along the easterly boundary of other lands of the Village of Sylvan Beach to a point standing on the southerly boundary of Stewart; thence S75°15′00″ E 150.00 feet along the southerly boundary of Stewart to the point and place of beginning. Totaling 0.616 acres, more or less.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Wizipan Garriott,
Principal Deputy Assistant Secretary—Indian Affairs, Exercising by delegation the authority of the Assistant Secretary—Indian Affairs.

[FR Doc. 2023-04166 Filed 2-28-23; 8:45 am]

BILLING CODE 4337-15-P